OFFICE OF SCIENCE AND TECHNOLOGY POLICY

National Science and Technology Council; Notice of Meeting: Open Meeting of the National Science and Technology Council; Committee on Technology; Nanoscale Science, Engineering, and Technology Subcommittee National Nanotechnology Coordination Office

ACTION: Notice of public meeting.

SUMMARY: The National Nanotechnology Coordination Office (NNCO), on behalf of the Nanoscale Science, Engineering, and Technology (NSET) Subcommittee of the Committee on Technology, National Science and Technology Council (NSTC), will hold a workshop on September 10-11, 2013, to engage stakeholders in discussion of perspectives on the perception, assessment, and management of the potential risks of nanotechnology. Representatives of the U.S. research community, industry, non-governmental organizations, and interested members of the general public are invited to participate. This workshop aims to facilitate: understanding of the state of practice for the consideration of risk used by industry, academia, and the general public; analysis of the role of comparative risk assessment in these evaluations, including decision analysis tools and gap analysis tools; identification, through case study presentations, of stakeholder values and risk perceptions that inform their decision making, and the potential integration of these values and perceptions that guide effective risk communication; current risk management practices in technology development communities; and determination of steps to improve the linkage of risk assessment to risk management and risk communication.

DATES: September 10, 2013, from 8:30 a.m. until 6:00 p.m. and September 11, 2013, from 8:30 a.m. until 3:00 p.m.

ADDRESSES: The workshop will be held at the U.S. Department of Agriculture Conference & Training Center, Patriots Plaza III, 355 E Street SW., Washington, DC 20024.

Type of Meeting: Public.

Registration: Due to space limitations, pre-registration for the workshop is required. Registration is on a first-come, first-served basis until capacity is reached. Registration will open on August 2, 2013, and remain open until September 3, 2013, or until capacity is reached. Individuals planning to attend the workshop should register online at www.nano.gov/r3workshop. Please provide your full name, title, affiliation, and email or mailing address when registering.

Those interested in presenting 3-5 minutes of public comments at the meeting must be registered and must be granted approval to present. Please submit your request to present at www.nano.gov/r3workshop or by mail to Tarek Fadel, 4201 Wilson Blvd., Stafford II, Suite 405, Arlington, VA 22230. All requests to present must be received by midnight on August 23, 2013.

FOR FURTHER INFORMATION CONTACT: For information regarding this Notice, please contact Tarek Fadel at National Nanotechnology Coordination Office, by telephone (703-292-7926) or email: tfadel@nnco.nano.gov or cdavid@nnco.nano.gov.

Updates to this Notice and additional information about the meeting, including the agenda, is posted at www.nano.gov/r3workshop.

Meeting Accomodations: Individuals requiring special accommodation to access this public meeting should contact Tarek Fadel (telephone 703-292-7926) or Cheryl David-Fordyce (703-292-2424) at least ten business days prior to the meeting so that appropriate arrangements can be made.

Ted Wackler,
Deputy Chief of Staff and Assistant Director.

[FR Doc. 2013-18217 Filed 7-29-13; 8:45 am]

BILLING CODE 3270-F3-P